DEPARTMENT OF COMMERCE

Patent and Trademark Office

[Docket No. 2002-C-006]

Notice of Publication of a 2002 Annual Index to the Electronic Official Gazette of the Patent and Trademark Office—Patents (eOG:P)

AGENCY: Patent and Trademark Office, Commerce.

ACTION: Notice.

SUMMARY: Notice is hereby given that the United States Patent and Trademark Office (USPTO) will publish a 2002 Annual Index to the electronic version of the Official Gazette of the United States Patent and Trademark Office—Patents (eOG:P). This annual index will be published on DVD-ROM.

DATES: The eOG:P began publication on July 2, 2002. Publication of the eOG:P Annual Index for 2002 will occur in early 2003.

SUPPLEMENTARY INFORMATION: The USPTO has announced that a 2002 Annual Index to the Electronic Official Gazette of the United States Patent and Trademark Office—Patents (eOG:P) will be published on DVD-ROM in early 2003. Although the eOG:P began publication in July 2002, the eOG:P team is gathering and converting the data from January through June in order to provide a complete annual index.

This annual index will be cumulative of the information contained in the weekly issues of the eOG:P for 2002. Indexes and bibliographic records for the year will be included in this one source. Bibliographic records contain a representative claim and drawing (if applicable) as well as classification, inventor and assignee information. Consistent with the weekly eOG:P issues, patents can be browsed by type of patent (utility, plant, etc.), classification (class or class/subclass), patentee name, and geographical location. The Official Gazette Notices, covering both patents and trademarks, will also be included.

Due to the large amount of data, the eOG:P Annual Index will be published on one or two DVD-ROM discs, not on CD-ROM. The price of the eOG:P Annual Index will be $300.00; it is not included in the annual subscription price of the eOG:P. Subscribers will receive notification when the annual index is available.

The Index of Patents Issued From the U.S. Patent and Trademark Office will be published in paper format through 2002 to coincide with the paper publication of the Official Gazette—Patents, the last paper issue of which is September 24, 2002. This publication will continue to be supplied by the Superintendent of Documents, U.S. Government Printing Office. For more information, please visit the GPO Web site at: http://www.access.gpo.gov/su_docs/.

FOR FURTHER INFORMATION CONTACT: Information Products Division, Crystal Park 3, Suite 441, Washington, DC 20231. Phone: (703) 306-2600, Fax: (703) 306-2737. cassis@uspto.gov.

Dated: September 23, 2002.
James E. Rogan,
Under Secretary of Commerce for Intellectual Property and Director of the United States Patent and Trademark Office.

[FR Doc. 02-24756 Filed 9-27-02; 8:45 am]

BILLING CODE 3510-16-P